DEPARTMENT OF AGRICULTURE

Rural Utilities Service

[DOCKET#: RUS-24-TELECOM-0019]

Notice of Funding Opportunity for the Broadband Technical Assistance Program for Fiscal Year 2024

AGENCY: Rural Utilities Service, USDA.

ACTION: Notice.

SUMMARY: The Rural Utilities Service (RUS or the Agency), a Rural Development (RD) agency of the United States Department of Agriculture (USDA), announces the acceptance of applications for the Broadband Technical Assistance (BTA) Program for fiscal year (FY) 2024. The BTA Program provides competitive cooperative agreement funding to eligible entities to receive or deliver broadband technical assistance and training that promotes the expansion of broadband into rural areas. Examples of broadband technical assistance projects may include conducting feasibility studies, completing network designs, and developing broadband financial assistance applications. This announcement lists the information needed to submit an application.

DATES: Applications must be submitted through www.grants.gov/ and received no later than August 20, 2024 to be eligible for funding under this funding opportunity. Late or incomplete applications will not be eligible for funding.

ADDRESSES: All applications must be submitted electronically at www.grants.gov.

FOR FURTHER INFORMATION CONTACT: Laurel Leverrier, Assistant Administrator, Telecommunications Program, Rural Utilities Service, United States Department of Agriculture, telephone: (202) 720-9556, email: Laurel.Leverrier@usda.gov.

SUPPLEMENTARY INFORMATION:

Overview

Federal Awarding Agency Name: USDA, RD, Rural Utilities Service.

Funding Opportunity Title: Broadband Technical Assistance.

Announcement Type: Notice of Funding Opportunity.

Funding Opportunity Number: RUS-BTA-2024.

Assistance Listing Number: 10.752.

Dates: Applications must be submitted through www.grants.gov/ and received no later than August 20, 2024 to be eligible for funding under this opportunity. Late or incomplete applications will not be eligible for funding under this opportunity.

Rural Development Key Priorities: The Agency encourages applicants to consider projects that will advance the following key priorities (more details available at rd.usda.gov/priority-points):

• Creating More and Better Market Opportunities; Assisting rural communities recover economically through more and better market opportunities and through improved infrastructure.

• Advancing Racial Justice, Place-Based Equity, and Opportunity; Ensuring all rural residents have equitable access to RD programs and benefits from RD funded projects; and

• Addressing Climate Change and Environmental Justice; Reducing climate pollution and increasing resilience to the impacts of climate change through economic support to rural communities.

Rural Partners Network (RPN): In addition, the Agency encourages applicants to work with the RPN. The RPN is an all-of-government program that demonstrates to rural America that the federal government can work differently to serve their unique needs in a way that is community-centered and locally-driven. The RPN is a recognition by the Biden Administration that it is time to do more for rural communities. Applicants to this funding opportunity are encouraged to include RPN Community Networks in their proposals by identifying Community Networks as collaborative partners or recipients of service. The RPN is supported by over 20 federal agencies and regional commissions, so including RPN Community Networks can help facilitate coordination with other federal agencies that fund broadband technical assistance (i.e., NTIA, ARC, EDA) to ensure complimentary efforts and reduce the chance of duplicative awards. Please visit www.rural.gov/community-networks for more information on locations of the 36 RPN Community Networks spanning ten states and Puerto Rico. To access specific contact information for prospective network participants to determine fit, please contact RuralPartnersNetwork@usda.gov.

A. Program Description

1. Purpose of the Program

The BTA Program provides financial assistance to eligible entities to receive or deliver broadband technical assistance and training. Program funds must be used to support broadband technical assistance activities that promote the expansion of broadband into rural areas. Broadband technical assistance activities include, but are not limited to, project planning and community engagement, financial sustainability, environmental compliance, construction and engineering planning, accessing federal resources, and data collection and reporting.

All applicants should carefully review and prepare their applications according to instructions in the FY 2024 BTA Application Guide (Application Guide) and program resources available on the program website at: www.rd.usda.gov/programs-services/telecommunications-programs/broadband-technical-assistance-program. Expenses incurred prior to submission of an application will be at the applicant's own risk.

2. Statutory and Regulatory Authority

The Rural eConnectivity Program is authorized under 7 U.S.C. 901 et seq., and Public Law 115-141, Section 779 (2018). This BTA NOFO will use technical assistance funds appropriated under the Infrastructure Investment and Jobs Act (IIJA) (Pub. L. 117-58).

3. Definitions

The terms and conditions provided in this NOFO are applicable to and for the purposes of this NOFO only. Unless otherwise provided in the award documents, all financial terms not defined herein shall have the meaning as defined by Generally Accepted Accounting Principles.

Administrator means the Administrator of RUS, or the Administrator's designee.

Applicant means an entity requesting funding under this NOFO.

Application means the Applicant's request for federal funding, which may be approved in whole or in part by RUS.

Award documents mean, as applicable, all associated award agreements.

Award means a cooperative agreement entered into under this NOFO.

Awardee means an eligible entity that has applied and been awarded federal assistance under this part.

Broadband technical assistance refers to activities that support broadband expansion into eligible rural areas and predevelopment planning activities, which may include, but are not limited to, project planning and community engagement, financial sustainability, environmental compliance, construction planning and engineering, accessing federal resources, and data collection and reporting.

Cooperative agreement is the instrument used to fund the support of RD's goals of increasing rural economic growth. In a cooperative agreement, federal employees participate more closely in project activities, often working side-by-side with the cooperator.

Distressed communities are identified as communities whose economic well-being ranks in the most distressed tier of the Distressed Communities Index. The most distressed tier of the index are those communities with a score over 80. A GIS layer identifying distressed communities can be found at www.rd.usda.gov/programs-services/telecommunications-programs/broadband-technical-assistance-program.

Indirect costs are costs that are not readily identified with a particular grant, contract, project function or activity, but are necessary for the general operation of the organization and the conduct of activities it performs.

Rural area means any area, as confirmed by the most recent decennial Census of the U.S., which is not located within a city, town, or incorporated area that has a population of greater than 20,000 inhabitants; or an urbanized area contiguous and adjacent to a city or town that has a population of greater than 50,000 inhabitants; and which excludes certain populations pursuant to 7 U.S.C. 1991(a)(13)(H) and (I). For purposes of the definition of rural area, an urbanized area means a densely populated territory as defined in the most recent decennial Census.

Socially Vulnerable Communities means rural communities with a Social Vulnerability Index (SVI) with a score of 0.75 or higher are eligible. For the purposes of this NOFO, Puerto Rico, Guam, America Samoa, the Northern Mariana Islands, Palau, the Marshall Islands, the Federated States of Micronesia, the U.S. Virgin Islands, and Hawaiian Census Tribal areas are considered Socially Vulnerable Communities. A GIS layer identifying socially vulnerable communities can be found at https://www.rd.usda.gov/programs-services/telecommunications-programs/broadband-technical-assistance-program.

Tribe means the term as defined in the Federally Recognized Indian Tribe List Act of 1994 (Pub. L. 103-454; 108 Stat. 4791, 4792). An American Indian or Alaska Native Tribe, band, nation, pueblo, village, or community that the Secretary of the Interior acknowledges to exist as an Indian Tribe under the Federally Recognized Tribe List Act of 1994 (25 U.S.C. 5131).

Tribal entity includes all entities falling under the eligible legal structures, including but not limited to: tribal owned corporations, tribal enterprises, subsidiaries of tribally-owned corporations and enterprises, tribal authorities, tribal utilities, intertribal non-profits and associations, Alaska Native Corporations and Alaska Native entities within the State of Alaska recognized by and eligible to receive services from the U.S. Department of the Interior's Bureau of Indian Affairs, Native Hawaiian organizations including Homestead Associations, State recognized tribes/nonprofits, and individually-owned Native American entities.

Tribal Land means any area identified by the U.S. Department of Interior as Tribal Land. A GIS layer of most Tribal Lands can be found on the RUS mapping tool located at: www.rd.usda.gov/programs-services/telecommunications-programs/broadband-technical-assistance-program.

4. Application of Awards

Applications will be reviewed for eligibility and completeness based on Sections C and D of this NOFO. Applications determined to be eligible and complete will be further evaluated based on criteria outlined in Section E. All applications will be competitively scored and ranked. Notifications will be sent to Applicants` in accordance with Section F of this NOFO.

B. Federal Award Information

Type of Award: Cooperative Agreement.

Fiscal Year Funds: FY 2024.

Available Funds: The Agency estimates that approximately $25 million is available for funding under this NOFO. RUS may, at its discretion, increase the total level of funding available from any available funding source provided the awards meet the requirements of the statute which made the funding available to the Agency.

Award Amounts: The minimum and maximum award amounts vary by funding category. The Agency reserves the right to make the applicant an offer that varies in amount or scope from the applicant's original request.

Funding Categories: Applicant must choose one of the following funding categories to be considered for funding:

• Technical Assistance Providers. The Agency estimates that up to $15 million is available. The minimum award amount is $100,000 and the maximum award amount is $1,000,000. Entities submitting an application under this funding category must propose to deliver broadband technical assistance that will benefit rural communities.

• Technical Assistance Recipients. The Agency estimates that up to $10 million is available. The minimum award amount is $50,000 and the maximum award amount is $500,000. Entities submitting an application under this funding category must be beneficiaries of broadband technical assistance.

Anticipated Award Date: Awards are anticipated to be made by December 31, 2024.

Period of Performance: Two-year period, beginning the date funds are released.

Renewal or Supplemental Awards: Not Applicable.

Type of Assistance Instrument: Cooperative Agreement. RD is authorized to administer cooperative agreement awards in accordance with 7. U.S.C. 2204b(b)(4) for BTA.

C. Eligibility Information

1. Eligible Applicants

Only entities legally organized as one of the following are eligible for financial assistance:

(a) Federally recognized Tribes and Tribal entities;

(b) States or local governments, including any agency, subdivision, instrumentality, or political subdivision thereof;

(c) A territory or possession of the U.S.;

(d) An institution of higher education (including 1862 Land-Grant Institutions, 1890 Land-Grant Institutions, 1994 Land-Grant Institutions, Hispanic-Serving Institutions, and Historically Black Colleges and Universities);

(e) Nonprofit organizations with 501(c)(3) IRS status;

(f) Cooperatives or mutual organizations;

(g) Corporations; or

(h) Limited Liability Companies or Limited Liability Partnerships.

2. Project Eligibility

(a) To be eligible for funding assistance, the proposed project must promote the expansion of broadband services into eligible rural areas.

(b) Award funds may be used to assist eligible entities in identifying and planning for the following purposes to deliver broadband services to rural areas:

(i) Identify resources to finance broadband facilities from public and private sources;

(ii) Prepare feasibility studies, financial forecasts, market surveys, environmental studies, and technical design information to support broadband services;

(iii) Prepare reports and surveys necessary to support the need for broadband services, the price range and to request financial assistance;

(iv) Analyze and improve operations related to the management of broadband facilities (i.e., implement automation, adopt new software, conduct training, etc.) and to the efficiency of the entity.

(c) The proposed project must include a component that allows for active participation and substantial involvement by RD in the applicant's project proposal. Examples of measurable substantial involvement include, but are not limited to the following:

(i) Joint convenings of community members, partners, and stakeholders;

(ii) Joint delivery of training for RD programs; and

(iii) The development of training sessions and outreach materials;

It is the intent of the proposed project to engage RD staff in broadband technical assistance activities, and it is the responsibility of the applicant to identify specific tasks where RD staff can provide measurable, substantial involvement in the project. If such tasks are not identified, the application will not be eligible for funding.

(d) A certification from the appropriate Tribal official is required if a project is being proposed by a non-tribal applicant over or on Tribal Lands. The appropriate Tribal official is the Tribal Council of the Tribal Government with jurisdiction over the Tribal Lands at issue. Any non-tribal applicant that fails to provide a certification to administer a project on Tribal Lands will not be considered for funding.

3. Cost Sharing or Matching

There are no cost sharing or matching requirements associated with this funding opportunity.

D. Application and Submission Information

1. Address To Request Application Package

Application and supporting materials are available at Grants.gov. Applications must contain all required information. To apply electronically, applicants must follow the instructions for this funding announcement at Grants.gov.

2. Content and Form of Application Submission

(a) A fully completed application is required to be considered eligible for funding. For an application to be considered complete, the applicant must complete and submit all forms, information, and supporting documentation described below.

(i) Written narrative proposal. The written proposal should be assembled into one or more pdf file(s) and should conform to the order in which the evaluation criteria are presented in Section E. The completed pdf file(s) should be uploaded into Grants.gov as an attachment to the application. The maximum limit for the written narrative section is 25 pages. Information exceeding 25 pages for the written narrative may not be considered for evaluation by the scoring panel. The written narrative proposal must clearly identify the funding category chosen.

(ii) Standard Form (SF) 424, “Application for Federal Assistance.”

(iii) SF 424B, “Assurances—Non-Construction Programs.”

(iv) The Agency reserves the right to contact applicants to seek clarification on submitted materials or request additional information.

(b) The Application Guide provides specific, detailed instructions for each item of a complete application. The Agency emphasizes the importance of including every item and strongly encourages applicants to follow the instructions carefully, using the examples and illustrations in the Application Guide.

3. System for Award Management and Unique Entity Identifier

(a) At the time of application, each applicant must have an active registration in the System for Award Management (SAM) before submitting its application in accordance with 2 CFR part 25 (www.ecfr.gov/current/title-2/subtitle-A/chapter-I/part-25). In order to register in SAM, entities will be required to obtain a Unique Entity Identifier (UEI). Instructions for obtaining the UEI are available at sam.gov/content/entity-registration.

(b) Each applicant must maintain an active SAM registration, with current, accurate and complete information, at all times during which it has an active Federal award or an application under consideration by a Federal awarding agency.

(c) Each applicant must ensure they complete the Financial Assistance General Representations and Certifications in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times

Applications must be submitted through Grants.gov and received no later than August 20, 2024 to be eligible for funding under this opportunity. Late or incomplete applications will not be eligible for funding.

Grants.gov requires some credentialing and online authentication procedures that may take several business days to complete. Therefore, the applicant should complete the registration, credentialing, and authorization procedures at Grants.gov in order to submit an application. Instructions on all required passwords, credentialing, and software are available on Grants.gov. If system errors or technical difficulties occur, use the customer support resources available at the Grants.gov website.

The Agency will not consider new scoring or eligibility information that is submitted after the application deadline. RUS reserves the right to ask applicants for clarifying information and additional verification of assertions in the application.

5. Intergovernmental Review

This program is not subject to Executive Order 12372, “Intergovernmental Review of Federal Programs.”

6. Funding Restrictions

In addition to costs identified as unallowable by 2 CFR part 200, award funds cannot be used to pay for the following types of expenses (this is not a comprehensive list of unallowable costs, see 2 CFR part 200).

(a) Construction (in any form).

(b) Activities serving communities in a non-rural area or those with existing broadband access.

(c) Duplicative project costs funded by another federal award.

(d) Indirect Costs.

7. Other Submission Requirements

Applications must be submitted electronically using Grants.gov. No other form of application will be accepted. RUS will not accept applications through mail or courier delivery, in-person delivery, email, or fax. RUS will approve no more than one application per applicant. If an applicant submits more than one application for different projects, then the Agency will only consider the application with the highest score. If an applicant submits more than one application for the same project, then the Agency will only consider the latest submission.

E. Application Review Information

1. Evaluation Criteria

The Agency will review each eligible, complete application based on the evaluation criteria identified in this section. The written narrative proposal addressed in Section D of this NOFO must address the criteria in the following order:

(a) Project Work Plan (up to 30 points). The applicant can receive up to 30 points for providing a detailed project work plan that demonstrates the soundness of the proposed broadband technical assistance approach. The scoring criterion will be based on the following:

(i) Work Plan Approach. The work plan approach should identify and detail project objectives, rural communities to be served, project key goals, partnerships developed or to be developed, and anticipated deliverables of the project. Applicants must list all rural communities that will benefit from the broadband technical assistance project and describe characteristics of the communities being served including information such as population size, population density, poverty rate, and other economic indicators. Communities may be defined at various geographic scales, including but not limited to, census blocks, towns, cities, and counties.

(ii) Work Plan Implementation. Applicants should include details on how the technical assistance will be provided and how it will lead to expanded broadband service in rural areas. Applicants should detail major task(s), involvement of key personnel, time period of task(s), substantial involvement of RD staff, and expected deliverables.

(iii) Budget and Work Plan Alignment. A detailed budget and budget justification must be provided. The budget justification should align with the tasks detailed in the workplan. Discuss how the budget specifically supports the proposed activities discussed in the project key tasks (as described above). The format of the budget's narrative can be in a chart, spreadsheet, table, etc., but it should be readable on letter-size, printable pages. The information needs to be presented in such a way that the reviewers can readily understand what expenses are incurred to support the project. Statement(s) of work for any subcontractors and consultants must be included as part of the application.

(b) Organizational capacity (up to 20 points). All applicants must demonstrate the capacity to deliver and/or support broadband technical assistance activities. The applicant can receive up to 20 points based on organizational capacity and qualifications. The maximum 20 points for this criterion will be based on the following:

(i) The applicant's proposal must demonstrate that the applicant has identified appropriate key personnel, both in terms of number of personnel and qualifications of personnel and should provide specific detail of qualifications of key personnel relating to broadband technical assistance. Capacity of personnel to access data for needs assessments and access to planners and other technical experts will be evaluated.

(ii) Applicants that are technical assistance providers must specify the number of years of providing broadband technical assistance, detail experience in providing broadband technical assistance to rural communities, identify types of rural communities previously served, and detail experience in performance evaluation.

(c) Rurality (up to 20 points). Points will be awarded for serving the least dense rural areas as measured by the population of the communities served.

(d) Economic Need (up to 20 points). Economic need is based on the county poverty percentage of the communities proposed to be served in the application. The percentages must be determined by utilizing the U.S. Census Small Area Income and Poverty Estimates (SAIPE) Program. Communities located in geographic areas, for which no SAIPE data exist, will be determined to have an average SAIPE poverty percentage of 30 percent. SAIPE data can be found on the program website.

(e) Creating More and Better Markets (10 points). Projects located in or serving a rural community whose economic well-being ranks in the most distressed tier of the Distressed Communities Index are eligible for 10 points. The most distressed tier of the index are those communities with a score over 80. A list of Distressed Communities can be found at: www.rd.usda.gov/media/file/download/fy24distressedcommunityindexlist-.xlsx. Points will be awarded for projects serving at least one distressed community.

(f) Projects advancing Racial Justice, Place-Based Equity, and Opportunity (10 points). Projects that meet one of the criteria below will receive 10 points.

(i) Projects proposing to serve at least one rural community with a Social Vulnerability Index (SVI) with a score of 0.75 or higher are eligible. For the purposes of this NOFO, Puerto Rico, Guam, America Samoa, the Northern Mariana Islands, Palau, the Marshall Islands, the Federated States of Micronesia, the U.S. Virgin Islands, and Hawaiian Census Tribal areas are considered Socially Vulnerable Communities. A GIS layer identifying the Socially Vulnerable Communities can be found using the mapping tool available at: www.rd.usda.gov/programs-services/telecommunications-programs/broadband-technical-assistance-program.

(ii) Projects that promote the expansion of broadband service on Tribal Lands. Tribal Lands will be identified in GIS layers included in the BTA mapping tool available at: www.rd.usda.gov/programs-services/telecommunications-programs/broadband-technical-assistance-program.

(iii) Projects proposed by a federally recognized Tribe, including Tribal instrumentalities and entities that are wholly owned by Tribes.

(iv) Projects from or benefiting an RPN community network. A GIS layer identifying RPN community networks can be found using the mapping tool available at: www.rd.usda.gov/programs-services/telecommunications-programs/broadband-technical-assistance-program.

(g) Performance measures (up to 10 points). The applicant can receive up to 10 points based on the proposed performance measures to evaluate the progress and impact of the proposed project.

Performance measures should be based on the applicant's proposal and must include a description for how the results of the technical assistance will be measured and the benchmarks to be used for measuring effectiveness. Indicators to be used should be specific and be quantifiable.

2. Review and Selection Process

Applications are ranked by the final score. RUS selects applications based on those rankings, subject to the availability of funds. RUS will approve no more than one application per applicant. If an applicant submits more than one application for different projects, then the Agency will only consider the application with the highest score. If an applicant submits more than one application for the same project, then the Agency will only consider the latest submission. The Agency has the authority to limit the number of applications selected in any one state or for any one project during a fiscal year. An application receiving fewer points can be selected over a higher scoring application if there are insufficient funds available to cover the costs of the higher scoring application.

The Agency reserves the right to offer the applicant less than the amount of funding requested.

F. Federal Award Administration Information

1. Federal Award Notices

RUS notifies applicants whose projects are selected for awards by mailing or emailing a copy of an award letter. The receipt of an award letter does not authorize the applicant to commence performance under the award. The award letter will include an agreement that contains all the terms and conditions for the cooperative agreement. An applicant must execute and return the agreement, accompanied by any additional items required by the agreement, within the number of days specified in the selection notice letter.

2. Administrative and National Policy Requirements

The items listed in this NOFO, the Application Guide, and program resources implement the appropriate administrative and national policy requirements, which include but are not limited to:

(a) Using Form SF 270, “Request for Advance or Reimbursement,” to request reimbursements (along with the submission of receipts for expenditures and any other documentation to support the request for reimbursement).

(b) Submitting an annual project performance activity report, no later than January 31st of the year following the year in which all or any portion of the award is first advanced and continuing in subsequent years until completion of the project.

(c) Ensuring that records are maintained to document all activities and expenditures utilizing program funds and matching funds (receipts for expenditures are to be included in this documentation).

(d) Providing a final project performance report, no later than one hundred twenty (120) days after the expiration date, termination of the award, the project completion, or the final disbursement of the award by the awardee, whichever event occurs last.

(e) Complying with policies, guidance, and requirements as described in the following applicable Code of Federal Regulations, and any successor regulations:

(i) 2 CFR parts 200 and 400 (Uniform Administrative Requirements, Cost Principles, and Audit Requirements for Federal Awards).

(ii) 2 CFR parts 180 and 417 (Government-wide Nonprocurement Debarment and Suspension).

(iii) Complying with Executive Order 13166, “Improving Access to Services for Persons with Limited English Proficiency.” For information on limited English proficiency and agency-specific guidance, go to www.LEP.gov.

(iv) Accountability and Compliance with Civil Rights Laws. The regulation found at 7 CFR part 1901 subpart E (www.ecfr.gov/current/title-7/subtitle-B/chapter-XVIII/subchapter-H/part-1901/subpart-E) contains policies and procedures for implementing the regulations of the Department of Agriculture issued pursuant to title VI of the Civil Rights Act of 1964, Title VIII of the Civil Rights Act of 1968, title IX, section 504 of the Rehabilitation Act of 1973, Executive Order 13166, Executive Order 11246, and the Equal Credit Opportunity Act of 1974, as they relate to RD. Nothing herein shall be interpreted to prohibit preference to American Indians on Indian Reservations.

The policies contained in this subpart apply to recipients. As recipients of federal financial assistance, awardees are required to comply with the applicable federal, state and local laws. Title VI of the Civil Rights Act of 1964 and section 504 of the Rehabilitation Act prohibits discrimination by recipients of federal financial assistance. Recipients are required to adhere to specific outreach activities. These outreach activities include contacting community organizations and leaders that include minority leaders; advertising in local newspapers and other media throughout the entire service area; and including the nondiscrimination slogan, “This is an Equal Opportunity Program.”

Discrimination is prohibited by Federal Law, in methods that may include, but not be limited to, advertisements, public broadcasts, and printed materials, such as brochures and pamphlets.

By completing the Financial Assistance Representations and Certifications in SAM, recipients affirm that they will operate the program free from discrimination. The recipient will maintain the race and ethnic data on the board members and beneficiaries of the program. The recipient will provide alternative forms of communication to persons with limited English proficiency. The Agency will conduct Civil Rights Compliance Reviews on recipients to identify the collection of racial and ethnic data on program beneficiaries. In addition, the compliance review will ensure that equal access to the program benefits and activities are provided for persons with disabilities and language barriers.

3. Reporting

(a) Performance Reporting. All recipients of financial assistance must provide annual performance activity reports to RUS until the project is complete and the funds are expended. A final performance report is also required; the final report may serve as the last annual report. The final report must include an evaluation of the success of the project in meeting the program objectives. Success of the project can be demonstrated by identifying the progress achieved in securing financing to bring broadband service to the eligible rural area. Project performance reports should include, but are not limited to, the following:

(i) A comparison of actual accomplishments to the objectives established for that period;

(ii) A description of any problems, delays, or adverse conditions which have occurred, or are anticipated, and which may affect the attainment of overall project objectives, prevent the meeting of time schedules or objectives, or preclude the attainment of particular project work elements during established time periods. This disclosure shall be accompanied by a statement of the action taken or planned to resolve the situation; and

(iii) Objectives and timetable established for the next reporting period.

(iv) Activities demonstrating the coordination with the State Broadband Office.

(b) Recipient and sub-recipient reporting. The applicant must have the necessary processes and systems in place to comply with the reporting requirements for first-tier sub-awards and executive compensation under the Federal Funding Accountability and Transparency Act of 2006 (Transparency Act) in the event the applicant receives funding, unless such applicant is exempt from such reporting requirements pursuant to 2 CFR 170.110(b). The reporting requirements under the Transparency Act are found at 2 CFR part 170 (www.ecfr.gov/current/title-2/subtitle-A/chapter-I/part-170).

(c) Accounting Requirements: Agency accounting requirements include compliance with Accounting Principles Generally Accepted in the United States, (GAAP), as well as compliance with the requirements of the applicable regulations: 2 CFR part 200 subpart E, Cost Principles, and 48 CFR part 31 Federal Acquisition Regulations Contract Cost Principles, and when applicable, 48 CFR part 30 Cost Accounting Standards. Awardees subject to non-GAAP or other accounting requirements should provide reconciling schedules with annual reporting. The Administrator may modify the accounting requirements if it is deemed necessary.

G. Federal Awarding Agency Contacts

1. Website: www.rd.usda.gov/programs-services/telecommunications-programs/broadband-technical-assistance-program. The BTA website maintains up-to-date resources and contact information for the Program.

2. For inquiries regarding eligibility concerns, please contact program staff at www.usda.gov/reconnect/contact-us. Other inquiries, please contact Christopher Proctor, Technical Assistance Branch Chief, Telecommunications Program, Rural Utilities Service, U.S. Department of Agriculture (USDA), email Christopher.Proctor@usda.gov, telephone: (202) 619-1739.

H. Other Information

1. Paperwork Reduction Act

In accordance with the Paperwork Reduction Act of 1995, the information collection requirements associated with the program, as covered in this notice, have been approved by the Office of Management and Budget (OMB) under OMB Control Number 0572-0160.

2. National Environmental Policy Act

All recipients under this notice are subject to the requirements of 7 CFR part 1970.

However, awards for technical assistance and training under this notice are classified as a Categorical Exclusion according to 7 CFR 1970.53(b), and usually do not require any additional documentation. RUS will review each application to determine its compliance with 7 CFR part 1970. The applicant may be asked to provide additional information or documentation to assist RUS with this determination.

3. USDA Non-Discrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(a) Mail: U.S. Department of Agriculture, Office of the Assistant Secretary for Civil Rights, 1400 Independence Avenue SW, Washington, DC 20250-9410; or

(b) Fax: (833) 256-1665 or (202) 690-7442; or

(c) Email: program.intake@usda.gov.

4. Equal Opportunity for Religious Organizations

(a) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(b) A faith-based organization that participates in this program will retain its independence from the Government and may continue to carry out its mission consistent with religious freedom and conscience protections in Federal law. Religious accommodations may also be sought under many of these religious freedom and conscience protection laws.

(c) A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

Andrew Berke,
Administrator, Rural Utilities Service, USDA Rural Development.

[FR Doc. 2024-13691 Filed 6-20-24; 8:45 am]

BILLING CODE 3410-15-P